DEPARTMENT OF AGRICULTURE

Food and Nutrition Service

7 CFR Part 210

[FNS-2014-0010]

RIN 0584-AE25

Local School Wellness Policy Implementation Under the Healthy, Hunger-Free Kids Act of 2010

AGENCY: Food and Nutrition Service, USDA.

ACTION: Correcting amendments.

SUMMARY: This document contains technical corrections to the Code of Federal Regulations regarding the final rule published in the Federal Register on July 29, 2016, “Local School Wellness Policy Implementation Under the Healthy, Hunger-Free Kids Act of 2010.”

DATES: This document is effective December 22, 2016. Compliance with this final rule began on August 29, 2016, except as noted in specific regulatory provisions.

FOR FURTHER INFORMATION CONTACT: Tina Namian, School Program Branch, Policy and Program Development Division, Food and Nutrition Service, 703-305-2590.

SUPPLEMENTARY INFORMATION: The Food and Nutrition Service published a final rule in the Federal Register, 81 FR 50151, on July 29, 2016, to expand local school wellness policy requirements consistent with the requirements set forth in section 204 of the Healthy, Hunger-Free Kids Act of 2010. This document is redesignating 7 CFR 210.30 and 7 CFR 210.31. This document also makes a technical correction in 7 CFR 210.30(b)(1)(iv) to ensure readers clearly understand where to locate the established hiring standards.

List of Subjects in 7 CFR Part 210

Children, Commodity School Program, Food assistance programs, Grant programs-health, Grant programs-education, School breakfast and lunch programs, Nutrition, Reporting and recordkeeping requirements.

Accordingly, 7 CFR part 210 is corrected by making the following correcting amendments:

PART 210—NATIONAL SCHOOL LUNCH PROGRAM

1. The authority citation for part 210 continues to read as follows:

Authority: 42 U.S.C. 1751-1760, 1779.

§§ 210.30 and 210.31 [Redesignated as §§ 210.31 and 210.30]

2. Redesignate §§ 210.30 and 210.31 as §§ 210.31 and 210.30, respectively.

§ 210.30 [Amended]

3. In the newly designated § 210.30, paragraph (b)(1)(iv), remove “§ 230.30(b)(1)” and add in its place “§ 210.30(b)(1)”.

Dated: December 15, 2016.
Audrey Rowe,
Administrator, Food and Nutrition Service.

[FR Doc. 2016-30861 Filed 12-21-16; 8:45 am]

BILLING CODE 3410-30-P